DEPARTMENT OF TRANSPORTATION

Federal Aviation Administration

[Docket No. FAA-2003-14246]

Airport Privatization Pilot Program

AGENCY: Federal Aviation Administration (FAA), DOT.

ACTION: Notice to reopen comment period for final application of New Orleans Lakefront Airport, New Orleans, Louisiana.

SUMMARY: The Federal Aviation Administration (FAA) is reopening the comment period for the Orleans Levee District's final application for participation of New Orleans Lakefront Airport (NEW) in the Airport Privatization Pilot Program. Specifically, the FAA is seeking information and comments from interested parties on the Operating Agreement of American Airports Lakefront, LLC, the proposed private sponsor. This agreement was not available to the FAA during the original public comment period, January 16, 2003, to May 23, 2003, published in the Federal Register as (68 FR 12969) and (68 FR 2391). The comment period is now reopened until May 28, 2004.

DATES: Comments must be received May 28, 2004.

ADDRESSES: The Operating Agreement of American Airports Lakefront, LLC and the final application are available for public review in the Dockets Office, U.S. Department of Transportation, Room Plaza 401, 400 Seventh Street, SW., Washington, DC 20590-0001. The documents have been filed under FAA Docket Number 2003-14246. The Dockets Office is open between 9 a.m. and 5 p.m., Monday through Friday, except Federal holidays. The Dockets Office is on the plaza level of the Nassif Building at the Department of Transportation at the above address. Also, you may review public dockets on the Internet at http://dms.dot.gov.

The Orleans Levee District, the airport sponsor, has also made a copy of the agreement and the application available at the following location: Administration Building, New Orleans Lakefront Airport, 6001 Stars and Stripes Boulevard, New Orleans, Louisiana 70126.

The Administration Building is open weekdays from 9 a.m. and 4 p.m. with the exception of legal holidays. The contact person is Max L. Hearn who may be reached at (504) 243-4000.

Comments on the agreement must be delivered or mailed, in duplicate, to: the Docket Management System, U.S. Department of Transportation, Room Plaza 401, 400 Seventh Street, SW., Washington, DC 20590-0001. You must identify the docket number “FAA Docket No 2003-14246” at the beginning of your comments. Commenters wishing the FAA to acknowledge receipt of their comments must include a preaddressed, stamped postcard on which the following statement is made: “Comments to FAA Docket No. 2003-14246.” The postcard will be date stamped and mailed to the commenter. You may also submit comments through the Internet to http://dms.dot.gov.

FOR FURTHER INFORMATION CONTACT: Kevin C. Willis, Compliance Specialist (AAS-400), (202) 267-8741) Airport Compliance Division, Office of Airport Safety and Standards, Federal Aviation Administration, 800 Independence Ave., SW., Washington, DC 20591.

SUPPLEMENTARY INFORMATION: Title 49 of the U.S. Code section 47134 authorizes the Secretary of Transportation, and through delegation, the FAA Administrator, to exempt a sponsor of a public use airport that has received Federal assistance from certain Federal requirements in connection with the privatization of the airport by sale or lease to a private party. Specifically, the Administrator may exempt the sponsor from all or part of the requirements to use airport revenues for airport-related purposes, to pay back a portion of Federal grants upon the sale of an airport, and to return airport property deeded by the Federal Government upon transfer of the airport. The Administrator is also authorized to exempt the private purchaser or lessee from the requirement to use all airport revenues for airport-related purposes, to the extent necessary to permit the purchaser or lessee to earn compensation from the operations of the airport. The FAA application procedures for the Airport Privatization Pilot Program (62 FR 48693) are available for review on the FAA Web site: www.faa.gov/arp/publications/fedreg.cfm?arpnav=fedr.

On March 2, 2000, Orleans Levee District submitted a preliminary application for the participation of the New Orleans Lakefront Airport in the Airport Privatization Pilot Program. On March 8, 2001, the FAA accepted the Orleans Levee District's preliminary application for the New Orleans Lakefront Airport, after reviewing additional information provided by the Orleans Levee District. After selecting a private operator and negotiating an agreement, the Orleans Levee District filed its final application on April 23, 2002. On January 16, 2003, the Federal Aviation Administration (FAA) published a notice in the Federal Register (68 FR 2391) seeking information and comments from interested parties on the final application by the Orleans Levee District for participation of New Orleans Lakefront Airport (NEW) in the Airport Privatization Pilot Program. The original deadline for submitting comments was March 12, 2003. However, the comment period was extended until May 23, 2003, to allow the public more time to comment and for the FAA to receive comments from airport users and interested parties at a public meeting at New Orleans Lakefront Airport on May 10, 2003.

On April 6, 2004, at the FAA's request, the private operator submitted a coy of the operating agreement for American Airports Lakefront, LLC. The agreement outlines the responsibilities of American Airports Corporation and United Professionals in fulfilling the duties of the private operator. This agreement was not available to the FAA during the original public comment period, January 16, 2003, to May 23, 2003, published in the Federal Register as (68 FR 12969) and (68 FR 2391).

Since this agreement is considered part of the final application and will be used by the FAA in making its final determination, the agency has decided to make it available for 30-day public comment.

Dated: Issued in Washington, DC on April 15, 2004.
David L. Bennett,
Director, Office of Airport Safety and Standards.

[FR Doc. 04-9626 Filed 4-27-04; 8:45 am]

BILLING CODE 4910-13-M